DEPARTMENT OF JUSTICE

Notice of Lodging of Proposed Consent Decree Under the Clean Water Act

On April 29, 2019, the Department of Justice lodged a proposed Consent Decree with the United States District Court for the District of Hawaii in the lawsuit entitled United States and State of Hawaii Department of Health v. Waste Management Hawaii, Inc. and City and County of Honolulu, Civil Action No. 19-cv-00224.

The United States and the State of Hawaii Department of Health filed this lawsuit under the Clean Water Act and Hawaii State law. The complaint seeks penalties and injunctive relief for discharges of pollutants, including contaminated storm water and solid waste, from the Waimanalo Gulch Sanitary Landfill located in Oahu, Hawaii. The landfill is operated by defendant Waste Management of Hawaii, Inc., and owned by defendant the City and County of Honolulu. The proposed Consent Decree requires the Defendants to perform injunctive relief to improve storm water management and address effluent limit violations at the landfill. The proposed Consent Decree also requires payment of civil penalties to the United States of $150,000 by Waste Management of Hawaii, Inc., and $62,500 by the City and County of Honolulu. The proposed Consent Decree further requires payments to the Hawaii State Department of Land and Natural Resources of $150,000 by Waste Management of Hawaii, Inc., and $62,500 by the City and County of Honolulu, with these funds to be used for research and restoration of coral and coral habitat.

The publication of this notice opens a period for public comment on the proposed Consent Decree. Comments should be addressed to the Assistant Attorney General, Environment and Natural Resources Division, and should refer to United States and State of Hawaii Department of Health v. Waste Management Hawaii, Inc. and City and County of Honolulu, D.J. Ref. No. 90-5-1-1-10729. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $14.75 (25 cents per page reproduction cost) payable to the United States Treasury.

Henry S. Friedman,
Assistant Section Chief, Environmental Enforcement Section, Environment and Natural Resources Division.

[FR Doc. 2019-09659 Filed 5-9-19; 8:45 am]

BILLING CODE P